DEPARTMENT OF COMMERCE

National Oceanic and Atmospheric Administration

RIN 0648-XF687

Western Pacific Fishery Management Council; Public Meeting

AGENCY: National Marine Fisheries Service (NMFS), National Oceanic and Atmospheric Administration (NOAA), Commerce.

ACTION: Notice of public meeting.

SUMMARY: The Western Pacific Fishery Management Council (Council) will hold a meeting of its Social Science Planning Committee (SSPC) in Honolulu, HI.

DATES: The SSPC meeting will be held on Tuesday and Wednesday, September 26 and 27, 2017, from 9 a.m. to 4 p.m.

ADDRESSES: The meeting will be held at the Council Offices at 1164 Bishop Street, Suite 1400, Honolulu, HI 96813.

FOR FURTHER INFORMATION CONTACT: Kitty M. Simonds, Executive Director; telephone: (808) 522-8220.

SUPPLEMENTARY INFORMATION: Public comment periods will be provided. The order in which agenda items are addressed may change. The Committee will meet as late as necessary to complete scheduled business.

Agenda

Tuesday, September 26, 2017, 9 a.m.

1. Introductions

2. Approval of Agenda

3. Report on the 170th Council meeting recommendations

4. Report on Pacific Islands Fisheries Science Center Human Dimensions Review

5. Social Science and Planning Committee Review and Revisions

A. Report from the SSPC Working Group

B. Review and revision of Draft Plan

i. Drivers

ii. Purpose and Need

iii. Goals and Objectives

iv. Tasks and Activities

v. Other strategic plan items

6. Public Comment

7. Summary and tasking of SSPC committee members

Wednesday, September 27, 2017, 9 a.m.

8. Review of SSPC Strategic Planning from Prior Day

9. Report from Committee members on Revisions and Finalization of Strategic Plan

10. SSPC Research Priorities

A. Report on Working Group Findings

i. Pacific Islands Human Dimensions Research Priority Areas

ii. Prioritization of Research by Priority Areas to meet Strategic Plan Goals and Objectives.

iii. Other Issues.

11. Public Comment

12. Discussion and Recommendations

13. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: September 8, 2017.
Jeffrey N. Lonergan,
Acting Deputy Director, Office of Sustainable Fisheries, National Marine Fisheries Service.

[FR Doc. 2017-19438 Filed 9-12-17; 8:45 am]

BILLING CODE 3510-22-P